DEPARTMENT OF AGRICULTURE

Agricultural Marketing Service

7 CFR Part 59

[Doc. No. AMS-LS-11-0037]

Wholesale Pork Reporting Negotiated Rulemaking Committee

AGENCY: Agricultural Marketing Service, USDA.

ACTION: Notice of negotiated rulemaking committee meeting.

SUMMARY: This document announces the third meeting of the Wholesale Pork Reporting Negotiated Rulemaking Committee (Committee). The primary purpose of the Committee is to develop proposed language to amend the Livestock Mandatory Reporting (LMR) regulations to implement mandatory pork price reporting, as directed by the Mandatory Price Reporting Act of 2010 (Pub. L. 111-239).

DATES: The Committee meeting will be held Tuesday, May 10, 2011, through Wednesday, May 11, 2011. On both days, the meeting will begin at 8:30 a.m. and is scheduled to end at 5 p.m.

ADDRESSES: The meeting will take place at the Holiday Inn National Airport/Crystal City Hotel; 2650 Jefferson Davis Highway; Arlington, VA 22202; Phone (703) 684-7200.

FOR FURTHER INFORMATION CONTACT: Michael Lynch, Chief; USDA, AMS, LS, LGMN Branch; 1400 Independence Ave., SW., Room 2619-S; Washington, DC 20250; Phone (202) 720-6231; Fax (202) 690-3732; or email at Michael.Lynch@ams.usda.gov.

SUPPLEMENTARY INFORMATION:

I. Background

On September 28, 2010, the Mandatory Price Reporting Act of 2010 (2010 Reauthorization Act) reauthorizing LMR for 5 years and adding a provision for mandatory reporting of wholesale pork cuts was enacted. The 2010 Reauthorization Act directed the Secretary to engage in negotiated rulemaking to make required regulatory changes for mandatory wholesale pork reporting. For background on LMR, please see the background section of the Notice of Establishment of Negotiated Rulemaking Committee published November 24, 2010 (75 FR 71568). On January 26, 2011, AMS published a notice announcing the final list of members on the Wholesale Pork Reporting Negotiated Rulemaking Committee, responding to comments from the November 24, 2010, Federal Register notice, and announcing the first meeting (76 FR 4554). Previous Committee meetings have been held on February 8-10, 2011, in St. Louis, Missouri, and March 15-17, 2011, in Washington, DC.

II. Statutory Provisions

The Negotiated Rulemaking Act of 1996 (5 U.S.C. 561-570); the Mandatory Price Reporting Act of 2010 (Pub. L. 111-239); the Livestock Mandatory Reporting Act of 1999 (7 U.S.C. 1635-1636i); and 7 CFR part 59.

III. Negotiated Rulemaking Committee Meeting

This document announces the third meeting of the Committee. The meeting will take place as described in the DATES and ADDRESSES sections of this notice. The agenda for the meeting will be posted in advance at http://www.ams.usda.gov/NegotiatedRulemaking. The agenda will include a review of draft regulatory language and discussion on remaining topics relevant to determining appropriate methodology and scope to implement a mandatory wholesale pork reporting program. These topics may include reporting basis, definitions for wholesale pork and types of sale, and related items. The Committee may, however, modify its agenda during the course of its work.

The meeting will be open to the public without advance registration. Public attendance may be limited to the space available. Members of the public will be given opportunities to make statements during the meeting at the discretion of the Committee, and will be able to file written statements with the Committee for its consideration. Written statements may be submitted in advance to the address listed in the FOR FURTHER INFORMATION CONTACT section of this document. If future meetings are necessary, they will be announced in the Federal Register.

Dated: April 22, 2011.
David R. Shipman,
Associate Administrator, Agricultural Marketing Service.

[FR Doc. 2011-10209 Filed 4-26-11; 8:45 am]

BILLING CODE 3410-02-P